DEPARTMENT OF THE INTERIOR

Bureau of Reclamation

Allocation of Water Supply and Long-Term Contract Execution, Central Arizona Project, Arizona

AGENCY: Bureau of Reclamation, Interior.

ACTION: Notice of re-opening the public review period for the draft environmental impact statement (EIS) on the Allocation of Water Supply and Long-Term Contract Execution, Central Arizona Project (CAP) (INT-DES-00-24).

SUMMARY: Pursuant to the National Environmental Policy Act (NEPA) of 1969, as amended, and the Council on Environmental Quality's Regulations for Implementing the Procedural Provisions of NEPA, the Bureau of Reclamation (Reclamation) filed a draft EIS with the U. S. Environmental Protection Agency (EPA) on the Allocation of Water Supply and Long-Term Contract Execution, CAP, on June 23, 2000. The draft EIS proposes allocation of remaining available CAP water and execution of associated contracts. Reclamation published a notice of availability for the draft EIS in the Federal Register on June 23, 2000 (65 FR 39177). EPA's notice of availability was published on June 30, 2000 (65 FR 40629). The public review period for the draft EIS was from June 23, 2000, to August 25, 2000. On July 12, 2000, a Federal Register notice was published (65 FR 43037) indicating that due to legislation passed during the public comment period prohibiting the expenditure of resources to complete the NEPA process, no public hearings would be held; however, written comments on the adequacy of the draft EIS would continue to be accepted until August 25, 2000.

Due to the amount of time that has passed since the original review period closed, Reclamation is re-opening the public review period for the draft EIS, to receive comments from interested organizations and individuals on the adequacy of the draft EIS in describing environmental impacts of the proposal. All written comments received during the original public review period are part of the record and do not have to be resubmitted.

At this time, Reclamation does not plan to hold any public hearings to obtain oral comments on the draft EIS; however, if substantial interest in having hearings is expressed, one or more public hearings will be scheduled and public notice will be provided in the Federal_Register.

DATES: If you believe a public hearing should be scheduled, please contact Mr. Bruce Ellis by March 15, 2004 (see FOR FURTHER INFORMATION CONTACT section below).

Written comments on this draft EIS must be received no later than April 27, 2004.

ADDRESSES: Send written comments to Mr. Bruce Ellis, Chief, Environmental Resources Management Division, Bureau of Reclamation, Phoenix Area Office (PXAO-1500), PO Box 81169, Phoenix, AZ 85069-1169; or by fax (602) 216-4006.

The draft EIS is available on the Internet at http://www.usbr.gov/lc/phoenix/. Copies of the draft EIS are also available upon request from Ms. Janice Kjesbo, Bureau of Reclamation, Phoenix Area Office (PXAO-1500), PO Box 81169, Phoenix, AZ 85069-1169, telephone (602) 216-3864, or fax (602) 216-4006.

See SUPPLEMENTARY INFORMATION for a list of libraries where the draft EIS is available for public inspection and review.

FOR FURTHER INFORMATION CONTACT: Mr. Bruce Ellis at (602) 216-3854.

SUPPLEMENTARY INFORMATION: As indicated in previous Federal Register notices, this NEPA process involves proposed modifications to previous CAP water allocations. The purpose and need for the Federal action is to allocate remaining available CAP water in a manner that would facilitate the resolution of outstanding Indian water rights claims in the State of Arizona. Authority for this action is pursuant to the Colorado River Basin Project Act of 1968 (Public Law 90-537).

The proposed allocation is taking place in the context of settlement negotiations concerning operation and repayment of the CAP and Indian water rights. These negotiations are being conducted by the U.S. Departments of the Interior and Justice, with representatives of the Central Arizona Water Conservation District (CAWCD) (which operates the CAP), several Indian Tribes, Arizona Department of Water Resources (ADWR), non-Indian agricultural districts, and several municipalities. The Proposed Action (or Settlement Alternative) identified in the draft EIS is an allocation of CAP water which is consistent with terms of proposed settlements negotiated with these entities. The draft EIS also analyzes three alternative allocations of remaining available CAP water. A No Action Alternative is also described, which provides a baseline for comparing the impacts of the four action alternatives.

In February 2003, legislation was introduced in the Congress to settle claims over Indian water rights, and repayments owed to the Federal government by Arizona for construction of the CAP. The proposed legislation (H.R. 885 and S. 437), known as the “Arizona Water Settlements Act,” provides for adjustments to the operation of the CAP, authorizes the Gila River Indian Community (GRIC) water rights settlement, and reauthorizes and amends the Southern Arizona Water Rights Settlement Act of 1982 (SAWRSA). Reallocation of CAP water and associated actions identified in the proposed legislation are consistent with those described as the Proposed Action (Settlement Alternative) and evaluated in the draft EIS. For informational purposes, the following is a comparison of the major components of the proposed action with the proposed legislation. Citations for the Proposed Action are to the draft EIS, Volume 1, dated June 2000. Citations to the proposed legislation are shown in italics and are to Senate Bill 437, as introduced on February 25, 2003.

1. Proposed Action. A total of 65,647 acre-feet annually (AFA) of currently unallocated municipal and industrial (M&I) priority water would be allocated and contracted to M&I entities consistent with State recommendations. [p. II-5, and Table 2-1]

Settlement Act. No change. Act directs Secretary to reallocate the 65,647 AFA per State recommendations (as reflected for the Settlement Alternative in Table 2-1 in the draft EIS). [see § 104(b)]

2. Proposed Action. A total of 17,000 AFA of M&I priority water currently contracted to ASARCO would be voluntarily transferred to GRIC pursuant to an agreement between the two parties and would be put under contract to GRIC. [p. II-5]

Settlement Act. No change. [see § 204(b)(3)]

3. Proposed Action. A total of 37,918 AFA of CAP water currently held by the Secretary, as a result of the Roosevelt Water Conservation District and Harquahala Valley Irrigation District relinquishments, would be used to facilitate Indian water rights claims. [pp. II-5 to II-6].

Settlement Act. No change.

Of the 37,918 AFA, 36,400 AFA would be allocated and contracted to GRIC; the remaining 1,518 AFA would continue to be held for use in settling Indian water rights claims in the Salt and Verde River watershed. [p. II-6]

Settlement Act. Of the 37,918 AFA, 36,700 AFA would go to GRIC; the remaining 1,218 AFA would continue to be held for use in settling Indian water rights claims in the Salt and Verde River watershed. [see § 204(b)(1) & (2)] There would be no change from the draft EIS in the overall GRIC settlement water budget; the additional 300 AFA of CAP water would displace an equal volume of groundwater.

4. Proposed Action. All allocations of non-Indian agriculture (NIA) priority water would be converted to fixed volumes based upon a total CAP water supply of 1,415,000 AFA, based upon the assumption that CAP water allocated to NIA districts would be voluntarily relinquished (estimated to affect a maximum of 295,263 AFA) [p. II-6].

Settlement Act. No change in concept; however, it is no longer assumed all CAP water allocated to NIA districts would be relinquished. Water not voluntarily relinquished by NIA districts would not be converted to fixed volumes (retained allocations would continue to be based upon a percentage of the available CAP agricultural supply). Estimated total amount potentially relinquished is 293,795 AFA-a reduction of 1,468 AFA due to a change in the way the Hohokam Irrigation and Drainage District option water to cities is calculated in the Settlement. [see § 104(a)(1) & (2)]

Assuming the maximum amount is relinquished, the following is envisioned to occur:

• Proposed Action. A total of 102,000 AFA of relinquished NIA priority water would be reallocated to GRIC as part of a water rights settlement agreement; and 28,200 AFA of the relinquished NIA priority water would be allocated to Tohono O'odham Nation to satisfy Federal obligations under SAWRSA. [p. II-6]

Settlement Act. No change. [see § 104(a)(1)(A)]

• Proposed Action. A total of 69,800 AFA of relinquished NIA priority water would be reserved for Federal use, primarily to facilitate future Indian water rights settlements (the draft EIS indicates this amount would likely be reduced by 2,500 AFA and that the final EIS would reflect the most current agreed upon amount).

Settlement Act. A total of 67,300 AFA would be reserved for future Indian water rights settlements. (The amount was, in fact, reduced by 2,500 AFA during negotiations.) [see § 104(a)(1)(A)(iii) & (B)]

• Proposed Action. Up to 95,263 AFA of relinquished NIA priority water would be distributed for M&I or NIA use by the State of Arizona through a process to be established. [p. II-6]

Settlement Act. No substantive change. The remaining relinquished NIA priority water (up to 96,295 AFA) would be held by ADWR in trust for future M&I or NIA use in Arizona. Subsequent reallocation of this water to M&I or NIA water users would be subject to further NEPA review. [see § 104(a)(2)]

5. Proposed Action. The draft EIS assumes some degree of Federal debt relief and Reclamation Reform Act (RRA) relief would be provided for NIA users to facilitate relinquishment. [p. II-6]

Settlement Act. The U.S. would forgive a total of $73,561,337 in debt incurred under section 9(d) of the Reclamation Project Act of 1939; CAWCD would fund upfront the remainder of the outstanding debt (approximately $84.5 million); later this debt is to be paid by the entities that are allocated the relinquished water. [see § 106(b)] RRA relief would be provided. [see § 106(c)]

6. Proposed Action. The manner in which shortages are allocated within the CAP would be agreed upon as part of the Settlement Alternative. Water relinquished by NIA districts would retain its original NIA priority. Higher priority Colorado River water delivered by CAP would continue to retain its priority.

Settlement Act. No change. The shortage sharing formula is set forth in paragraph 8.16 of the GRIC settlement and would be incorporated into existing CAP Indian and M&I contracts. [see § 104(d)(2)(C)]

7. Proposed Action. Although not stated, the analysis in the draft EIS assumes unallocated M&I water would be subcontracted for a term of 50 years of water service which could be renewed, consistent with current subcontract terms.

Settlement Act. All contracts and subcontracts for CAP water (except those for non-Indian agricultural use or those executed under paragraph 5(d) of the repayment stipulation) would be offered or amended to be for permanent service. [see § 104(d)(2)(A)]

Reclamation reviewed the portions of the proposed settlement act that are relevant to CAP water allocations, to identify any differences between what is described in the draft EIS and the proposed legislation. Reclamation has determined these changes would not result in any significant changes to the environmental impacts described in the draft EIS. Therefore, the draft EIS has not been revised. The final EIS will, however, be updated as necessary to acknowledge the most current proposed reallocation of CAP water at that time. As indicated in the draft EIS, in the event a final settlement contains modifications that are different from those analyzed in this process, Reclamation will evaluate them to determine whether or not additional NEPA compliance is required prior to implementation.

A final allocation of remaining available CAP water, and execution of contracts for delivery of that water, would provide a level of certainty to all entities regarding available future water supplies. This, in turn, would enable Arizona water users, Indian and non-Indian alike, to develop and implement the systems and infrastructure necessary to utilize those water supplies to meet future water demands and serve Tribal and community needs.

Copies of the draft EIS are available for public inspection and review at the following libraries:

• Department of the Interior, Natural Resources Library, 1849 C Street, NW., Washington, DC 20240.

• Bureau of Reclamation, Denver Office Library, Building 67, Room 167, Denver Federal Center, 6th and Kipling, Denver, CO 80225.

• Arizona Department of Library Archives and Public Records, 1700 W. Washington St., Phoenix, AZ 85007.

• Phoenix Public Library (Burton Barr Central), 1221 N. Central Ave., Phoenix, AZ 85004.

• Arizona Collection, Hayden Library, Arizona State University, Tempe, AZ 85287.

• Government Document Service, Arizona State University, Tempe, AZ 85287.

• Arizona State University—West Library, 4701 W. Thunderbird Rd., Glendale, AZ 85306.

• University of Arizona, Main Library, 1510 E. University Blvd., Tucson, AZ 85721.

• Library, City Hall Annex, 111 E. Pennington, Tucson, AZ 85701.

• Law Library, County Courthouse (Lower Level), Tucson, AZ 85701.

• Government Reference Library, City Hall, 9th Floor, Tucson, AZ 85701.

• Globe Public Library, 339 S. Broad St., Globe, AZ 85501.

• Casa Grande Public Library, Casa Grande, AZ 85222.

• Coolidge Public Library, 160 W. Central Ave., Coolidge, AZ 85228.

• Coconino County Public Library, 300 W. Aspen Ave., Flagstaff, AZ 86001.

• Cline Library, PO Box 6022, Northern Arizona University, Flagstaff, AZ 86011-6022.

• Tuba City Public Library Bldg., 45 W. Maple St., Tuba City, AZ 86045.

• Payson Public Library, 510 W. Main, Payson, AZ 85541.

• Sierra Vista Public Library, 2600 E. Tacoma, Sierra Vista, AZ 85635.

• Cottonwood Public Library, 100 S. 6th St., Cottonwood, AZ 86326.

• Parker Public Library, 1001 Navajo Ave., Parker, AZ 85344.

• Green Valley Public Library, 601 N. LaCaZada, Green Valley, AZ 85614.

• Octavia Fellin Public Library, 115 W. Hill Ave., Gallup, NM 87301.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 18, 2004.
Willie R. Taylor,
Director, Office of Environmental Policy and Compliance.

[FR Doc. 04-4313 Filed 2-26-04; 8:45 am]

BILLING CODE 4310-MN-P